ENVIRONMENTAL PROTECTION AGENCY

40 CFR Part 52

[TN-232-200118(b); FRL-7044-3]

Approval and Promulgation of Implementation Plans: State of Tennessee

AGENCY: Environmental Protection Agency (EPA).

ACTION: Proposed rule.

SUMMARY: The EPA is approving a revision to the State of Tennessee's rules submitted on February 14, 2000. The State of Tennessee is amending Chapter 1200-3-22—Lead Emissions Standards to require EPA approval of changes to Reasonably Available Control Technology (RACT) emission levels in permits for lead sources. In the Final Rules Section of this Federal Register, the EPA is approving the State's SIP revision as a direct final rule without prior proposal because the Agency views this as a noncontroversial submittal and anticipates no adverse comments. A detailed rationale for the approval is set forth in the direct final rule. If no adverse comments are received in response to this action, no further activity is contemplated. If EPA receives adverse comments, the direct final rule will be withdrawn and all public comments received will be addressed in a subsequent final rule based on this proposed rule. The EPA will not institute a second comment period on this document. Any parties interested in commenting on this document should do so at this time.

DATES: Written comments must be received on or before September 28, 2001.

ADDRESSES: Written comments should be addressed to Kimberly Bingham, at the EPA Regional Office listed below. The interested persons wanting to examine these documents should make an appointment with the appropriate office at least 24 hours before the visiting day. Copies of the documents relative to this action are available for public inspection during normal business hours at the following locations.

U.S. Environmental Protection Agency, Region 4, Atlanta Federal Center, Air, Pesticides, and Toxics Management Division, 61 Forsyth Street, Atlanta, Georgia 30303-3104. Tennessee Department of Environment and Conservation, Division of Air Pollution Control, 9th Floor L&C Annex, 401 Church Street, Nashville, Tennessee 37243-1531.

FOR FURTHER INFORMATION CONTACT: Kimberly Bingham of the EPA Region 4, Air Planning Branch at (404) 562-9038 and at the above address.

SUPPLEMENTARY INFORMATION: For additional information see the direct final rule which is published in the Final Rules section of this Federal Register.

Dated: July 24, 2001.
Russell Wright,
Acting Regional Administrator, Region 4.

[FR Doc. 01-21701 Filed 8-28-01; 8:45 am]

BILLING CODE 6560-50-P